DEPARTMENT OF TRANSPORTATION

Coast Guard

33 CFR Part 167

[USCG-1999-4974]

Port Access Routes; Strait of Juan de Fuca and Adjacent Waters

AGENCY: Coast Guard, DOT.

ACTION: Notice of study results.

SUMMARY: The Coast Guard announces the completion of a Port Access Route Study which evaluated the need for modifications to current vessel routing and traffic management measures for the Strait of Juan de Fuca, Haro Strait, Boundary Pass, Rosario Strait, the Strait of Georgia, and adjacent waters. The study was completed in November, 2000. This notice summarizes the study recommendations, which include enhancements to existing vessel routing measures, the addition of new vessel routing measures, and the creation of several new operational procedures.

ADDRESSES: Comments and material received from the public, as well as the actual study and other documents mentioned in this notice, are part of docket USCG-1999-4974 and are available for inspection or copying at the Docket Management Facility, U.S. Department of Transportation, room PL-401, 400 Seventh Street, SW., Washington, DC, 20590-0001, between 9 a.m. and 5 p.m., Monday through Friday, except Federal holidays. You may also find this docket on the Internet at http://dms.dot.gov.

FOR FURTHER INFORMATION CONTACT: For further information on this notice, contact Lieutenant Junior Grade Aaron Meadow-Hills, Thirteenth Coast Guard District, telephone 206-220-7215, e-mail ameadows-hills@pacnorwest.uscg.mil; or George Detweiler, Office of Vessel Traffic Management, Coast Guard, telephone 202-267-0416, e-mail gdetweiler@comdt.uscg.mil. For questions on viewing the docket, contact Dorothy Beard, Chief, Dockets, Department of Transportation, telephone 202-366-9329.

SUPPLEMENTARY INFORMATION: You may obtain a copy of the Port Access Route Study by contacting either person listed under FOR FURTHER INFORMATION CONTACT section. A copy is also available in the public docket at the address listed under the ADDRESSES section and electronically on the DMS Web Site at http://dms.dot.gov.

Definitions

The following definitions should help you review this notice:

Area to be avoided (ATBA) means a routing measure comprising an area within defined limits in which either navigation is particularly hazardous or it is exceptionally important to avoid casualties and which should be avoided by all ships, or certain classes of ships.

Cooperative Vessel Traffic Service (CVTS) means the system of vessel traffic management established and jointly operated by the United States and Canada within adjoining waters. In addition, CVTS facilitates traffic movement and anchorages, avoids jurisdictional disputes, and renders assistance in emergencies in adjoining United States and Canadian waters.

Precautionary area means a routing measure comprising an area within defined limits where ships must navigate with particular caution and within which the direction of traffic flow may be recommended.

Recommended route means a route of undefined width, for the convenience of ships in transit, which is often marked by centerline buoys.

Regulated Navigation Area (RNA) is a water area within a defined boundary for which regulations for vessels navigating within the area have been established under 33 CFR part 165.

Traffic lane means an area of defined width in which one-way traffic is established. Natural obstacles, including those forming separation zones, may constitute a boundary.

Traffic Separation Scheme (TSS) means a routing measure aimed at the separation of opposing streams of traffic by appropriate means and by the establishment of traffic lanes.

Background and Purpose

When did the Coast Guard Conduct this Port Access Route Study (PARS)?

We announced the PARS in a notice published in the Federal Register on January 20, 1999 (64 FR 3145) and completed the PARS in November, 2000.

What is the study area?

The study area encompasses waters in and around the Strait of Juan de Fuca, approximately between longitudes 126°W and 122°40′W, including Admiralty Inlet, Rosario Strait and adjacent waterways, Haro Strait, Boundary Pass and the Strait of Georgia. The study area also includes both U.S. and Canadian TSS's and an ATBA. Portions of the study area are managed jointly by United States and Canadian Coast Guards pursuant to the CVTS agreement.

Why did the Coast Guard conduct this PARS?

The latest Waterways Analysis and Management System (WAMS) report for the Strait of Juan de Fuca, dated June 1995, identified potential measures to improve navigational safety and traffic management efficiency. In 1997, on behalf of the Coast Guard, the Volpe National Transportation Systems Center conducted a broad assessment of the probabilities and consequences of marine accidents in the Puget Sound-area, including Puget Sound, the Strait of Juan de Fuca, passages around and through the San Juan Islands, and the offshore waters of the Olympic Coast National Marine Sanctuary. This assessment, formally titled “Scoping Risk Assessment: Protection Against Oil Spills in the Marine Waters of Northwest Washington State”, also known as the “Puget Sound Additional Hazards Study” or “Volpe Study,” recommended several vessel routing measures for further study, including changes to the offshore approaches to the Strait of Juan de Fuca. Implementation of the changes recommended in these documents requires IMO approval. This is contingent on the completion of a port access route study.

How did the Coast Guard conduct this PARS?

First, we announced the start of the study through a Notice of Study published in the Federal Register (64 FR 3145, January 20, 1999). Second, we extended the comment period of the Notice of Study and announced that we would conduct a public meeting through a Notice of Meeting; Extension of Comment Period published in the Federal Register (64 FR 18651, April 15, 1999). The public meeting was held on May 12, 1999 as announced. Because of the lack of a substantive number of comments to the original notice and our strong desire to engage the public in the study process, we asked for comments on a number of issues and recommendations. These issues and recommendations were presented in a Notice of Preliminary Study Recommendations with Request for Comments. The notice was published in the Federal Register on February 23, 2000 (65 FR 8917). During the comment period we and our Canadian counterparts embarked on a vigorous outreach program that presented the recommendations and solicited comments from a variety of waterway users and other potentially affected/interested groups. We offered to meet with them to explain the PARS Study and solicit their input. Over 300 copies of this Federal Register notice (65 FR 8917), with chartlets, were distributed by mail and direct handout.

The recommendations of the PARS are based in large part on comments received to the docket, extensive public outreach meetings, and recent studies such as the Puget Sound Additional Hazards Study, and the North Puget Sound Long-Term Oil Spill Risk Management Study. Heavy reliance was also placed on the expert opinions of the U.S. and Canadian VTS operators and managers.

Study Recommendations

The PARS evaluated 13 separate issues resulting in 28 specific final recommendations intended to improve the safety of vessel traffic in the study area. For the purposes of this notice, we condensed the 28 recommendations into the following list. The actual PARS should be consulted for a detailed explanation of each recommendation. The PARS also contains chartlets of the proposed changes/additions to the TSS. It can be accessed as described in the ADDRESSES section of this notice. The PARS recommendations include:

• Mandate use of the TSS for certain classes of vessels.

• Expand the applicability of certain provisions of Rule 10 of the International Regulations for Prevention of Collision at Sea, 1972 (72 COLREGS) along with development of a CVTS reporting system for violations of Rule 10.

• Expand the use of VTS radio frequencies to facilitate passing arrangements.

• Expand the geographic boundaries and the applicability of the existing ATBA located in the vicinity of the Olympic Coast Marine Sanctuary. Retain the voluntary nature of the ATBA.

• Reconfigure and extend the TSS seaward at the entrance to the Strait of Juan de Fuca.

• Modify the location, orientation, and dimensions of the existing TSS in the Strait of Juan de Fuca.

• Create a recommended route south of the TSS in the Strait of Juan de Fuca for smaller, slower moving traffic.

• Relocate the Pilot Area and reconfigure the traffic lanes and precautionary area off Port Angeles to improve traffic flow and reduce risks.

• Establish new vessel operating procedures to improve safety in the U.S. waters off Port Angeles, WA, through an RNA or other appropriate method.

• Change the vessel traffic lanes and precautionary area east of Victoria, British Columbia.

• Establish precautionary areas off Discovery Island and around the Victoria Pilot Station; and reconfigure the TSS connecting the two precautionary areas.

• Create a new two-way traffic lane in Haro Strait and Boundary Pass and establish a precautionary area off Turn Point.

• Create new vessel operating procedures to improve safety in the vicinity of Turn Point through the creation of a Turn Point CVTS Special Operating Area and its rules and procedures.

• Expand Precautionary Area “RB” at the south end of Rosario Strait.

• Expand the geographic applicability of the existing Rosario Strait VTS Special Area regulations contained in 33 CFR 161.55 to include Bellingham Channel and other adjacent waters.

• Create a new TSS to link the existing TSS in Georgia Strait, with the exiting TSS north of Rosario Strait and to the east of Succia Island.

• Create new precautionary areas in Georgia Strait off East Point and west of Delta Port and the Tsawwassen Ferry Terminal.

• Expand the U.S. VMRS requirements to match those of Canada which include all vessels 20 meters or more in length.

Next Steps

The PARS contains a number of recommendations, which will be implemented in various ways by U.S. and Canadian Authorities. A brief synopsis of how the various proposals will proceed towards implementation follows:

1. Changes to the TSS, ATBA, and adding recommended routes will require approval by the International Maritime Organization (IMO). Any changes to the TSS will be accomplished through the rulemaking process.

2. Changes to the U.S. VTS Regulations, including the designation of a VTS Special Area with associated rules, will be accomplished through the rulemaking process.

3. The designation of an RNA with associated rules will be accomplished through the rulemaking process.

4. Changes to aids to navigation resulting from the above actions will be accomplished through standard established procedures, i.e., notification of proposed changes in the Local Notice to Mariners with an opportunity for comment and notification of the final changes.

5. Revisions to the operating procedures for the CVTS will be developed by the Joint Coordinating Group and published in the CVTS Users Manual.

6. Canadian authorities will follow their own, but similar implementation process.

Conclusion

We appreciate the comments we received concerning the PARS. We will provide ample opportunity for additional comments on any recommended changes to existing routing or operational measures that require codification through notices of proposed rulemakings (NPRM's) published in the Federal Register.

Dated: January 16, 2001.
R.C. North,
U.S. Coast Guard, Assistant Commandant for Marine, Safety and Environmental Protection.

[FR Doc. 01-1847 Filed 1-19-01; 8:45 am]

BILLING CODE 4910-15-P